ENVIRONMENTAL PROTECTION AGENCY

[FRL 11779-01-R3]

Clean Air Act Operating Permit Program; Order on Petition for Objection to State Operating Permit for United States Steel Corporation, Mon Valley Works Edgar Thompson Plant

AGENCY: Environmental Protection Agency (EPA).

ACTION: Notice of final order on petition.

SUMMARY: The Environmental Protection Agency (EPA) Administrator signed an order dated February 7, 2024, granting a petition dated September 26, 2023 from the Environmental Integrity Project, the Clean Air Council, and PennFuture. The petition requested that the EPA object to a Clean Air Act (CAA) title V operating permit issued by the Allegheny County Health Department (ACHD) to the U.S. Steel Mon Valley Works Edgar Thompson Plant (U.S. Steel, Edgar Thompson) for its steel production facility located in Braddock, Allegheny County, Pennsylvania.

FOR FURTHER INFORMATION CONTACT: Mr. David Talley, EPA Region 3, (215) 814-2117, talley.david@epa.gov. The final order and petition are available electronically at: www.epa.gov/title-v-operating-permits/title-v-petition-database.

SUPPLEMENTARY INFORMATION: The EPA received a petition from the Environmental Integrity Project, the Clean Air Council, and PennFuture dated September 26, 2023, requesting that the EPA object to the issuance of operating permit no. 0051-OP23, issued by ACHD to U.S. Steel, Edgar Thompson in Braddock, Allegheny County, Pennsylvania.

On February 7, 2024, the EPA Administrator issued an order granting the petition.

The order itself explains the basis for the EPA's decision.

Cristina Fernández,
Director, Air and Radiation Division, Region III.

[FR Doc. 2024-04428 Filed 3-1-24; 8:45 am]

BILLING CODE 6560-50-P